NUCLEAR REGULATORY COMMISSION

Sunshine Act; Meetings

Dates: Weeks of January 3, 10, 17, 24, 31, February 7, 2005.

Place: Commissioners' Conference Room, 11555 Rockville Pike, Rockville, Maryland.

Status: Public and Closed.

Matters To Be Considered:

Week of January 3, 2005

Wednesday, January 5, 2005

2 p.m. Affirmative Session (Public Meeting) (Tentative)

a. Private Fuel Storage (Independent Spent Fuel Storage Installation); Docket No. 72-22-ISFSI (Tentative)

b. Duke Energy Corp. (Catawba Nuclear Station, Units 1 and 2); Unpublished Board Order (Dec. 17, 2004). (Tentative)

Week of January 10, 2005—Tentative

Tuesday, January 11, 2005

9:30 a.m. Discussion of Security Issues (Closed—Ex. 1 & 9)

Wednesday, January 12, 2005

9:30 a.m. Discussion of Security Issues (Closed—Ex. 1 & 9)

Week of January 17, 2005—Tentative

There are no meetings scheduled for the Week of January 17, 2005.

Week of January 24, 2004—Tentative

Monday, January 24, 2005

9:30 a.m. Discussion of Security Issues (Closed—Ex. 1)

1:30 p.m. Discussion of Security Issues (Closed—Ex. 1, 2, 3, & 4)

Tuesday, January 25, 2005

9:30 a.m. Discussion of Security Issues (Closed—Ex. 1

Week of January 31, 2005—Tentative

Thursday, February 3, 2005

9:30 a.m. Briefing on Human Capital Initiatives (Closed—Ex. 2) (Tentative)

Week of February 7, 2005—Tentative

There are no meetings scheduled for the Week of February 7, 2005.

* The schedule for Commission meetings is subject to change on short notice. To verify the status of meetings call (recording)—(301) 415-1292. Contact person for more information: Dave Gamberoni, (301) 415-1651.

* * * * *

The NRC Commission Meeting Schedule can be found on the Internet at: http://nrc.gov/what-we-do/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, August Spector, at 301-415-7080, TDD: 301-4152100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (201-415-1969). It addition, distribution of this meeting notice over the Internet system is available. If you are interested in receiving this Commission meeting schedule electronically, please send an electronic message to dkw@nrc.gov.

Dated: December 28, 2004.
Dave Gamberoni,
Office of the Secretary.

[FR Doc. 04-28753 Filed 12-30-04; 9:23 am]

BILLING CODE 7590-01-M